DEPARTMENT OF HOMELAND SECURITY

Coast Guard

33 CFR Part 165

[Docket No. USCG-2008-0215]

RIN 1625-AA00

Safety Zones: Festival of Sail San Francisco, San Francisco, CA

AGENCY: Coast Guard, DHS.

ACTION: Temporary final rule.

SUMMARY: The Coast Guard will establish temporary safety zones in support of the scheduled Festival of Sail Events from July 23, 2008, through July 27, 2008. The safety zones will include a parade and two mock cannon battles referred to as location “alpha” and location “bravo”. The temporary safety zones are necessary to provide for the safety of spectators, participating vessels and crews.

DATES: This rule is effective for the Festival of Sail—Parade of Ships from 11:59 a.m. through 4 p.m. on July 23, 2008; for the mock cannon battle location “alpha” from 2 p.m. through 4:30 p.m. on July 25, 2008, and July 26, 2008; and for the mock cannon battle location “bravo” from 2 p.m. through 4:30 p.m. on July 24, 2008, and July 27, 2008.

ADDRESSES: Comments and material received from the public, as well as documents mentioned in this preamble as being available in the docket, are part of docket USCG-2008-0215 and are available online at http://www.regulations.gov. This material is also available for inspection or copying at two locations: The Docket Management Facility (M-30), U.S. Department of Transportation, West Building Ground Floor, Room W12-140, 1200 New Jersey Avenue, SE., Washington, DC 20590, between 9 a.m. and 5 p.m., Monday through Friday, except Federal holidays and Coast Guard Sector San Francisco, 1 Yerba Buena Island, San Francisco, California, 94130 between 8 a.m. and 4 p.m., Monday through Friday, except Federal holidays.

FOR FURTHER INFORMATION CONTACT: If you have questions on this temporary rule, call Lieutenant Junior Grade Sheral Richardson, U.S. Coast Guard Sector San Francisco, at (415) 399-7436. If you have questions on viewing the docket, call Renee V. Wright, Program Manager, Docket Operations, telephone 202-366-9826.

SUPPLEMENTARY INFORMATION:

Regulatory Information

On June 13, 2008, we published a notice of proposed rulemaking (NPRM) entitled “Safety Zones: Festival of Sail San Francisco, San Francisco, CA” in the Federal Register (73 FR 115). We received no letters commenting on the proposed rule. No public meeting was requested, and none was held.

Background and Purpose

The American Sail Training Association, in coordination with the local sponsor, Festival of Sail San Francisco, is sponsoring the 2008 Festival of Sail Event. This event is a part of the Tall Ships® Challenge race series transiting the Pacific Ocean along the west coast of North America. Between the races, the participating vessels will visit several ports, including San Francisco. Vessels will be docked along the waterfront offering the public the opportunity to tour vessels, sail and learn. There are many activities on the water scheduled to take place; such as mock cannon battles and the parade. Safety zones will be established along with the issuance of marine event permits for this event. The temporary safety zones are necessary to provide for the safety of the crews, spectators, and participants of the Festival of Sail and are also necessary to protect other vessels and users of waterway.

Discussion of Comments and Changes

No comments were received about the event taking place. This document reflects the information published in the original NPRM.

Discussion of Rule

The Coast Guard will establish a moving safety zone extending 100 yards around each vessel participating in the Festival of Sail—Parade of Ships as each vessel transits through San Francisco Bay. The safety zones surrounding the participant vessels will be enforced on July 23, 2008. The parade route is as follows, it will commence at the Golden Gate Bridge, extend east to Alcatraz Island and then south to Pier 40, and will be bounded by a line connecting the following points: 37[deg]48′40″ N and 122[deg]28′38″ W, 37[deg]49′10″ N and 122[deg]28′41″ W, 37[deg]49′31″ N and 122[deg]25′18″ W, 37[deg]49′06″ N and 122[deg]24′08″ W, 37[deg]47′53″ N and 122[deg]22′42″ W, 37[deg]46′54″ N, 122[deg]23′09″ W.

The Coast Guard will establish a temporary safety zone for the mock cannon battles taking place west of Alcatraz Island. This location will be called location “alpha”. The safety zone will be bounded by a line connecting the following points: 37[deg]49′18″ N and 122[deg]25′40″ W, 37[deg]49′24″ N and 122[deg]25′18″ W, 37[deg]49′45″ N and 122[deg]25′42″ W, and lastly 37[deg]49′37″ N and 122[deg]26′05″ W; and will include all navigable waters from the surface to the seafloor. This safety zone will be in effect on July 25, 2008, and July 26, 2008.

The Coast Guard will establish a temporary safety zone for the mock cannon battles taking place west of Treasure Island in Anchorage 7. This location will be called location “bravo”. The safety zone will be bounded by a line connecting the following points: 37[deg]48′55″ N and 122[deg]23′03″ W, 37[deg]49′07″ N and 122[deg]22′32″ W, 37[deg]49′28″ N and 122[deg]22′53″ W and lastly 37[deg]49′18″ N and 122[deg]23′28″ W; and will include all navigable waters from the surface to the seafloor. This safety zone will be in effect on July 24, 2008, and July 27, 2008.

These safety zones are necessary to provide for the safety of the crews, spectators, and participants of the Festival of Sail. Persons and vessels would be prohibited from entering into, transiting through, or anchoring within these safety zones unless authorized by the Captain of the Port, or his designated representative.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

Assistance for Small Entities

Under section 213(a) of the Small Business Regulatory Enforcement Fairness Act of 1996 (Pub. L. 104-121), in the NPRM we offered to assist small entities in understanding the rule so that they could better evaluate its effects on them and participate in the rulemaking process.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this proposed rule under Commandant Instruction M16475.lD which guides the Coast Guard in complying with the National Environmental Policy Act of 1969 (NEPA) (42 U.S.C. 4321-4370f), and have made a preliminary determination that this action is not likely to have a significant effect on the human environment. A preliminary “Environmental Analysis Check List” supporting this preliminary determination is available in the docket where indicated under ADDRESSES. We seek any comments or information that may lead to the discovery of a significant environmental impact from this proposed rule.

List of Subjects in 33 CFR Part 165

Harbors, Marine safety, Navigation (water), Reporting and recordkeeping requirements, Security measures, and Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. Add temporary § 165.T11-025 to read as follows:

§ 165.T11-025 Safety Zones; Festival of Sail, San Francisco, CA.

(a) Location. These temporary safety zones are established for the Festival of Sail Events taking place in the following locations:

(1) For the Festival of Sail—Parade of Ships the moving safety zone extends 100 yards around each vessel participating in the Parade of Ships as each vessel transits through San Francisco Bay to its respective mooring site.

(2) For the mock cannon battles, the safety zone for location “alpha” will take place west of Alcatraz Island. The safety zone will be bounded by a line connecting the following points: 37[deg]49′18″ N and 122[deg]25′40″ W, 37[deg]49′24″ N and 122[deg]25′18″ W, 37[deg]49′45″ N and 122[deg]25′42″ W, and lastly 37[deg]49′37″ N and 122[deg]26′05″ W; and will include all navigable waters from the surface to the seafloor.

(3) For the mock cannon battles, the safety zone for location “bravo” will take place west of Treasure Island in Anchorage 7. The safety zone will be bounded by a line connecting the following points: 37[deg]48′55″ N and 122[deg]23′03″ W, 37[deg]49′07″ N and 122[deg]22′32″ W, 37[deg]49′28″ N and 122[deg]22′53″ W and lastly 37[deg]49′18″ N and 122[deg]23′28″ W; and will include all navigable waters from the surface to the seafloor.

(b) Definitions. As used in this section, designated representative means a Coast Guard Patrol Commander, including a Coast Guard coxswain, petty officer, or other officer operating a Coast Guard vessel and a Federal, State, and local officer designated by or assisting the Captain of the Port San Francisco (COTP) in the enforcement of the safety zones.

(c) Regulations. (1) Under the general regulations in § 165.23, entry into, transiting, or anchoring within these safety zones is prohibited unless authorized by the COTP or the COTP's designated representative.

(2) The safety zone is closed to all vessel traffic, except as may be permitted by the COTP or the COTP's designated representative.

(3) Vessel operators desiring to enter or operate within the safety zone must contact the COTP or the COTP's representative to obtain permission to do so. Vessel operators given permission to enter or operate in the safety zone must comply with all directions given to them by the COTP or the COTP's designated representative. Persons and vessels may request permission to enter the safety zone on VHF-16 or the 24-hour Command Center via telephone at (415) 399-3547.

(d) Effective period. This section is effective for the Festival of Sail-Parade of Ships from 11:59 a.m. through 4 p.m. on July 23, 2008; for the mock cannon battle location “alpha” from 2 p.m. through 4:30 p.m. on July 25, 2008, and July 26, 2008; and for the mock cannon battle location “bravo” from 2 p.m. through 4:30 p.m. on July 24, 2008, and July 27, 2008.

Dated: July 9, 2008.
P.M. Gugg,
Captain, U.S. Coast Guard, Captain of the Port, San Francisco.

[FR Doc. E8-16674 Filed 7-22-08; 8:45 am]

BILLING CODE 4910-15-P